DEPARTMENT OF LABOR

Employment and Training Administration

Workforce Investment Act—Work Incentive Program To Enhance Service Delivery for Jobseekers With Disabilities Through the National One-Stop Delivery System, Fourth Round Solicitation for Grant Applications

Announcement Type: New. Notice of solicitation for grant applications.

Funding Opportunity Number: SGA/DFA-04-107.

Catalog of Federal Domestic Assistance (CFDA) Number: 17.266.

Key Dates: Deadline for Application Receipt—May 11, 2004.

Executive Summary: The U.S. Department of Labor (USDOL), Employment and Training Administration (ETA), announces the availability of approximately $14 million to be granted to qualifying applicants for the period of June 2004 to June 2006. The Work Incentive Grant Program provides grant funds to entities administering Workforce Investment Act Title I programs to augment the One-Stop delivery system to facilitate programmatic access and enhanced, streamlined service delivery for jobseekers with disabilities, including psychiatric and other hidden disabilities.

Authority: Key provisions relating to the One-Stop delivery system and this Solicitation for Grant Applications are at sections 121, 134(c), and 189(c) of the Workforce Investment Act [29 U.S.C. 2841, 2864(c), 2939(c)]; the Wagner-Peyser Act [29 U.S.C. 49f(d) and (e)]; and Department of Labor Appropriations Act, 2003 [Pub. L. 108-7]. Key regulations governing Workforce Investment Act programs are at 20 CFR parts 652 and 660-671 [65 FR 49294 (August 11, 2000)].

I. Funding Opportunity Description

1. Overview of the One Stop Career Center System: Section 121 of the Workforce Investment Act (WIA) authorizes programs to serve the employment and training needs of Americans through the One-Stop Career Center system. This system was established through the 1998 passage of WIA as the key element in comprehensive reform of existing Federal job training programs, with amendments impacting service delivery under the adult, dislocated and youth programs, as well as the Wagner-Peyser Act, Adult Education and Literacy Act, and the Rehabilitation Act. Additional Federal programs are identified as required partners in the One-Stop Career Center system with the goal of giving all Americans access to comprehensive services, information and resources that can help them achieve their career goals. The intention of the One-Stop Career Center system is to establish a network of programs and providers in co-located and integrated settings that are accessible for individuals and businesses in each of the approximately 600 workforce investment areas established throughout the nation. WIA established state and local Workforce Investment Boards focused on strategic planning, policy development, and oversight of the workforce investment system, and accorded significant authority to the nation's Governors and local chief elected officials to implement innovative and comprehensive delivery systems. The vision, goals and objectives for workforce development under the WIA decentralized system are described in the state strategic plan required under section 112 of the legislation. This state strategic workforce investment plan—and the operational experience gained by all the partners to date in implementing the WIA-instituted reforms—help identify the important “unmet needs” of employers and opportunities to expand access to One-Stop Career Centers for employers and all population segments within the local labor market.

2. ETA's Division of Disability and Workforce Programs (DDWP): DDWP develops and implements disability policy and program initiatives related to the workforce system, including cross-agency collaborations to address structural barriers to employment. Since the implementation of the WIA, ETA has directed funds and resources to improve workforce services for persons with disabilities, including those with psychiatric and other hidden disabilities. DDWP's major initiatives to embrace the population of jobseekers with disabilities are:

• Increasing the value and use of the One-Stop Career Center system through the Work Incentive Grants, by providing comprehensive informational and assistance services on multiple programs for which jobseekers with disabilities are eligible. Eighty-eight grants have been awarded in three rounds since October 2000 to state and/or local workforce investment boards, and to public and nonprofit organizations working closely with these entities. The fourth round for this initiative is the subject of this SGA. The One-Stop Toolkit Web site at http://www.onestoptoolkit.org includes numerous training materials, strategies and products developed by grantees to assist their workforce investment systems in serving the disability community. Reviewing these materials will help you avoid proposing activities that duplicate products already available on the Toolkit.

• Enhancing comprehensive services and work incentive information for Social Security Administration (SSA) beneficiaries and other jobseekers with disabilities through an ETA/SSA jointly funded Disability Program Navigator Initiative in 14 states in which SSA is establishing employment support initiatives. Information on this initiative, and on SSA's Ticket to Work and Work Incentive Improvement Act (Training and Employment Notice No. 6-02), can be found at http://wdsc.doleta.gov/disability.

• Improving training and career opportunities and outcomes for jobseekers with disabilities through grants focused on innovative skill training and systems change. Twelve multi-site Disability Employment Grants totaling $5.5 million were awarded in 2002 to showcase innovative training options within the One-Stop Career Center system for people with significant disabilities. DDWP also administers several Disability Information Technology (IT) Grants, awarded in June 2001 to improve employment opportunities for people with disabilities through intensive IT skills training and close working partnerships with the IT employer community.

Please note that the Department of Labor's Office of Disability Employment Policy (ODEP) has also awarded a number of grants to the workforce system related to customized employment and youth services for persons with disabilities. Information on these grants can be obtained at http://dol/odep.gov.

3. Problem Statement: People who have disabilities want and need to work. Employers need a qualified work force. Communities work best when their citizens are productive. Yet a distressingly low percentage of working age people with disabilities is employed. The Social Security Administration provides benefits to nearly 13 million people with disabilities at a cost of more than $100 billion annually; 48% of those under 60 have a mental disability. The rate of job entry or reentry into the workforce of SSA disability beneficiaries, including those with psychiatric disabilities, has historically been less than ½ of 1%. President Bush announced the New Freedom Initiative in February 2001 to address this serious unemployment situation and to advance community integration of individuals with disabilities. Reasons for the low employment levels in this population include fragmented funding sources, differing criteria and priorities for these resources, misconceptions among jobseekers with disabilities about integrative support systems as well as about losing benefits if they become employed, fear of employing jobseekers with disabilities, a history of inflexible referral protocols, and inconsistent staff training across systems. Our Work Incentive Grant program confronts these issues.

4. Objectives for Round IV of Work Incentive Grants: The Work Incentive Grant program is consistent with the objectives of the President's New Freedom Initiative, signed on February 1, 2001, to increase employment opportunities and promote the full participation of people with disabilities in all areas of society. These Fourth Round Work Incentive Grants will emphasize:

• Improving the One-Stop system for jobseekers with disabilities through implementing strategies for physical, communication and programmatic access to One-Stop services for persons with disabilities, including psychiatric disabilities, and facilitating coordination and collaboration of multiple agencies and providers that impact job seekers with disabilities;

• Enhancing comprehensive services through implementation of Disability Program Navigator strategies; and

• Increasing the number of people with disabilities served under WIA and employment outcomes for jobseekers with disabilities, including psychiatric and other hidden disabilities, accessing WIA Title I and Wagner-Peyser programs.

II. Award Information

1. Type of assistance instrument: Two year grant.

2. Amount of funds to be awarded: Through this fourth Work Incentive Grant Program SGA, ETA will award approximately $14 million in funds made available under the DOL Fiscal Year 2003 appropriation.

3. Anticipated number of awards: Approximately 30 grants will be awarded under this SGA.

4. Expected amounts of individual awards: We anticipate awarding grants of up to $600,000 to WIA Title I and Wagner-Peyser administering entities, including State or local Workforce Investment Boards. Grant awards will be limited to $600,000 for state-wide grants, $400,000 for proposals covering more than one workforce investment area, and $200,000 for a single workforce investment area.

5. Anticipated start date and period of performance for awards: Work Incentive Grants will be funded for the period of June 2004 through June 30, 2006. Funds must be expended by this date or will revert to the U.S. Treasury. ETA cannot provide a no-cost extension beyond June 30, 2006 since these funds are only available up to and including that date.

III. Eligibility Information

1. Eligible Applicants: Five types of applicants are eligible to apply for these grants:

• The state organizational entity that administers Workforce Investment Act Title I and Wagner-Peyser programs in partnership with its state level Workforce Investment Board;

• The state level Workforce Investment Board in partnership with its state organizational entity that administers WIA Title I and Wagner-Peyser programs;

• A local Workforce Investment Board in partnership with its One-Stop Career Center operators;

• Consortia of local Workforce Investment Boards in partnerships with their One-Stop Career Center operators; and

• Indian and Native American tribal entities, or consortia of tribes.

It is important to note the following eligibility factors:

• The Grant Officer will take into account whether applicants have received a prior grant, or current grant funded in Round III, with the intent of providing preference to workforce investment areas that have not previously received a Work Incentive Grant. In general, additional grant funds will not be awarded to workforce investment areas under Round III WIGs since these grants are funded through June 2005.

• Fourteen (14) states have entered into cooperative agreements with ETA to implement the Disability Program Navigator initiative. Additional funds will be available to those states under the Interagency Agreement between ETA and SSA. In general, additional grant funds under this fourth WIG solicitation will not be awarded to state and/or local areas that are in the fourteen states. The fourteen (14) Navigator states are: Arizona, California, Colorado, Delaware, Florida, Illinois, Iowa, Maryland, Massachusetts, New York, Oklahoma, South Carolina, Vermont, and Wisconsin.

• The grantee will be expected to perform both administrative and operational responsibilities for the grant; subcontracting out of these functions will not be allowed.

• The Department will give preference to states and local workforce area(s) that have not previously received a Work Incentive Grant. Please note that a complete list of prior and current Work Incentive Grants and Disability Program Navigator cooperative agreements is provided at ETA's disability Online Web site: http://wdsc.doleta.gov/disability/.

• ETA encourages state and local workforce area(s) that have previously received a Work Incentive Grant to focus their proposal during this fourth round WIG on implementing Disability Program Navigator positions. We expect that significant progress has already been made under the prior WIG and that implementation of Navigators would be the most productive application of resources available under the fourth round WIG.

• Applications involving one or more local workforce investment areas must include letters of commitment from each local board covered under the proposal, or one letter signed by all participating local boards (commitment letter(s) are not counted against the page limits). Please note that letters from local boards are not required for state level proposals.

• Proposals for tribal entities should coordinate services and enhance a One-Stop system approach for jobseekers with disabilities in specific Indian communities or covering multiple tribal entities that may cut across multiple states and/or workforce investment areas. In such cases, letters of commitment from local boards are not required. Grants to Indian and Native American tribal grantees are treated differently because of sovereignty and self-governance principles established under the Indian Self-Determination and Education Assistance Act allowing for the government-to-government relationship between the federal and tribal governments.

2. Cost Sharing and Matching Funds: Identification of funds related to cost sharing, matching funding, or in-kind participation is not required from applicants for this grant opportunity and, therefore, specific dollar amounts associated with public or private contributions will not be considered in the review and decision of award by the Grant Officer. At the same time, ETA encourages applicants to leverage funding resources in the delivery of One-Stop Career Center services to job seekers with disabilities, as well as coordinate other activities across state and local disability or workforce initiatives, when applicable, as these are primary goals of the Work Incentive Grant program.

3. Other Eligibility Criteria: ETA encourages applicants to develop partnerships with disability-related public and private organizations in the development and implementation plan. Such organizations may include: State Councils for Independent Living and local Centers for Independent Living; state mental health agencies, state mental retardation and Developmental Disability Councils; Temporary Assistance for Needy Families (TANF) agencies; and other private, non-profit organizations such as disability advocacy and providers and community-based and faith-based organizations that provide services for people with disabilities.

Except as specifically provided, DOL/ETA's acceptance of a proposal and an award of Federal funds to sponsor any program(s) does not provide a waiver of any grant requirement and/or procedures. For example, the OMB circulars stipulate that an entity's entire procurement procedures and transactions, including subcontracts, must provide for free and open competition. If a proposal identifies a specific entity to provide the services, the DOL/ETA's award does not provide the justification or basis to sole-source the procurement, i.e., avoid competition, unless the activity is regarded as the primary work of an official partner to the application. The official partner must therefore identify the work it intends to do within the grant application and attach a letter of agreement to this effect.

IV. Application and Submission Information

1. Address to Request Application Package: This SGA contains all of the information and forms needed to apply for grant funding.

2. Content and Form of Application Submission: A cover letter, the original proposal, plus three copies of the proposal must be submitted. In the original proposal, the SF 424 must be signed in blue ink. Applications must include two separate parts—Part I provides financial and budget information; Part II provides the statement of work.

Part I

Part I of the application must contain the Standard Form (SF) 424, “Application for Federal Assistance” and a fully completed Budget Information Form (see Appendix ). The SF 424 and the Budget Information forms are also available at http://wdsc.doleta.gov/sga/forms.asp. The SF 424 must clearly identify the applicant (i.e., the fiscal agent) and be signed with original signatures by the representative authorized by the governing body of the applicant to enter into the grant agreement. Applicants shall indicate on the SF 424 the organization's IRS Status, if applicable. Under the Lobbying Disclosure Act of 1995, section 18 (29 U.S.C. 1611), an organization described in section 501(c)(4) of the Internal Revenue Code of 1986 which engages in lobbying activities shall not be eligible for the receipt of Federal funds constituting an award, grant, or loan.

Dun and Bradstreet Number. Beginning October 12, 2003, all applicants for Federal grant and funding opportunities are required to have a Dun and Bradstreet (DUNS) number. See OMB Notice of Final Policy Issuance, 68 FR 38402 (June 27, 2003). Applicants must supply their DUNS number in item #5 of the new SF-424 issued by OMB (Rev. 9-2003). See Attachment A. The DUNS number is a nine-digit identification number that uniquely identifies business entities. Obtaining a DUNS number is easy and there is no charge. To obtain a DUNS number, access this Web site: www.dunandbradstreet.com or call 1-866-705-5711.

Financial Narrative. The Budget Information Form must incorporate financial narrative information that describes all costs associated with implementing the activities to be covered with grant funds. Applicants should anticipate, for their travel budget, costs for three key staff to attend an annual policy and training meeting in Washington, DC, and one or two regional meetings.

Part II

Part II—Technical Proposal contains an Executive Summary and the Statement of Work that provides narrative information on your plans for carrying out the objectives of the Work Incentive Grant. With the exception of the two-page single-spaced executive summary, the Part II Statement of Work narrative must not exceed 30 pages, double-spaced on single-sided, numbered pages with a 12-point font required throughout. Please note that letters of commitment from local boards, and official partnership agreements, do not count against the page limitations; however, general letters of support for the application will count against the page limit.

The Executive Summary, or Abstract, summarizes the proposal and the primary objectives and scope of activities to be covered, including how activities address the Statement of Work criteria. Demonstrate that these activities are new and unique to the geographic area entailed. In addition, include the following information in the Executive Summary:

• The number of workforce investment areas in the state and the number of comprehensive One-Stop Career Centers in the state, and the workforce area(s) to be covered in the grant proposal.

• The extent to which physical, programmatic and communication access has been achieved in the One-Stop Career Center(s) for persons with disabilities and how the proposal will address deficiencies, if applicable.

• The core, intensive and training service levels for persons with disabilities compared to all participants in WIA Title I adult, dislocated worker, and youth programs, and labor exchange services under Wagner-Peyser, and activity levels planned under the proposal.

• The percentage of people with disabilities in the state and/or local area, including the percentage of people who are beneficiaries of Social Security Disability Insurance (SSDI) and/or Social Security Income Program (SSI).

• The most recent unemployment rate(s) in the workforce investment area(s) covering the project, including short and long-range employment projections.

• A description of primary industries in the workforce investment area(s), including new or emerging industries that are projected to expand and occupational skills in most demand.

• Partners, if any, who will be collaborating on proposal activities.

The Statement of Work narrative represents your plan to meet the system-building objectives of this SGA to increase, enhance, and improve services for jobseekers with disabilities, including psychiatric disabilities, with verifiable training and employment outcomes, in the nation's workforce investment system.

(i) Statement of Need;

(ii) Workplan to Increase Comprehensive Services and Enhance One-Stop Career Center Services: Choose (1) or (2).

(1) Comprehensive One-Stop Career Center Strategies

(2) Staff Capacity—Disability Program Navigator

(iii) Annotated Project Timeline

(iv) Improve Participation and Employment Outcomes for Persons with Disabilities

(v) Plan to Sustain Activities Beyond WIG IV Funding

The Work Incentive Grant program represents an important element of an overall strategy to improve employment and workforce participation of people with disabilities, including psychiatric disabilities, through access to the One-Stop Career Center system. Your proposal should seek to:

• Workplan 1: Increase comprehensive service delivery through increased outreach and coordination with organizations that serve jobseekers with disabilities, especially in States and local workforce areas that have not previously received a Work Incentive Grant and may not have adequate services in place.

• Or Workplan 2: Enhance One-Stop Career Center service delivery through expanded implementation of Disability Program Navigator positions, especially in states and local areas that have previously received a Work Incentive Grant. (As indicated above, 14 states funded through Disability Program Navigator initiative will continue to receive funding support through their cooperative agreement rather than this fourth round WIG solicitation.)

• All applications: Improve the number of people with disabilities registered and participating in WIA Title I or Wagner-Peyser programs as well as improving their employment outcomes and career advancement and plan for sustainability.

Part II consists of the following parts; which are described in detail in section V(1) Criteria.

Part II: Statement of Work
Categories | Maximum pages, double spaced | Maximum points
(A) Statement of Need | 5 pages | 15 points.
(B) Workplan 1 or 2 | 10 pages | 40 points.
(C) Timeline | 5 pages | 15 points.
(D) Improve Participation and Employment Outcomes | 5 pages | 15 points.
(E) Plans to Sustain WIG Activities | 5 pages | 15 points.

3. Submission Dates and Addresses:

Dates: The closing date for receipt of applications is May 11th, 2004. Applications must be received by 4 p.m. (eastern standard time) at the address below: Applications sent by e-mail, telegram, or telefacsimile (fax) will not be accepted. Applicants are advised that the Department's receipt of mail has encountered delays because of mail screening procedures at local post offices.

Addresses: Applications must be mailed to: U.S. Department of Labor, Employment and Training Administration, Division of Federal Assistance, Attention: Eric Luetkenhaus, Reference: SGA/DFA 04-107, 200 Constitution Avenue, NW., Room N-4438, Washington, DC 20210.

Hand Delivered Proposals: If proposals are hand delivered, they must be received at the designated address by 4 p.m., eastern time on May 11th, 2004. All overnight mail will be considered to be hand delivered and must be received at the designated place by the specified closing date and time. Telegraphed, e-mail and/or fax proposals will not be honored. Failure to adhere to the above instructions will be a basis for determination of non-responsiveness.

4. Intergovernmental Review: This funding opportunity is not subject to Executive Order (EO) 12372, “Intergovernmental Review of Federal Programs.”

5. Funding Restrictions: All proposed costs should be necessary and reasonable according to the Federal guidelines set forth in the “Uniform Administrative Requirements for Grants and Cooperative Agreements to State and Local Governments” codified at 29 CFR part 97, and “Grants and Agreements with Institutes of Higher Education, Hospitals, and Other Non-Profit Organizations” codified at 29 CFR part 95, and must comply with the applicable OMB cost principles circulars, as identified in 29 CFR 95.27 and 29 CFR 97.22(b). There is no administrative cost limitation under the WIG funding authority and the nature of the WIG program assumes that the majority of applicable costs will be administrative in nature. The cost of procurement or implementation of software or hardware to assure assistive and accessible technologies in the One-Stop setting may account for up to 40% of the budget if warranted by compelling need.

6. Other Submission Requirements: Late Proposals. A proposal received at the designated office after the exact time specified for receipt will not be considered unless it is received before the award is made and it:

• Was sent by U.S. Postal Service registered or certified mail not later than the fifth day (5th) calendar day before the closing date specified for receipt of applications (e.g., an offer submitted in response to a solicitation requiring receipt of application by the 20th of the month must be mailed by the 15th); or

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. post mark on the envelope or wrapper affixed by the U.S. Postal Service and on the original receipt from the U.S. Postal Service. The term “post mark” means a printed, stamped, or otherwise placed impression (exclusive of a postage meter machine impression) that is identifiable without further action as having been supplied or affixed on the date of mailing by employees of the U.S. Postal Service.

Withdrawal of Applications. Applications may be withdrawn by written notice or telegram (including mailgram) received at any time before an award is made. Application may be withdrawn in person by the applicant or by an authorized representative thereof, if the representative's identify is made known and the representative signs a receipt for the proposal.

V. Application Review Information

1. Criteria: Applications will be reviewed based upon the following criteria:

A. Statement of Need (Not To Exceed 5 Double-Spaced Pages; Maximum of 15 Points)

Your Statement of Need will be evaluated on (1) the overall status of disability-related issues in the workforce investment areas covered by your proposal; (2) the One-Stop Career Center system's strengths and deficiencies that you and the One-Stop Career Center system will address; and (3) your past performance in supporting service delivery to people with disabilities. Please note: To learn about the ETA and ODEP grants in your state and local area, see http://wdsc.doleta.gov/disability/ and click on Grants and Contracts on the menu to the left. At this site you can view a map indicating the location of related grants awarded in your area. To learn about the work of previously awarded Work Incentive Grants, go to http://www.onestoptoolkit.org.

• Describe the level of expertise of the One-Stop system in the local area(s) addressed in the grant and the project plans for addressing inadequacies.

• Describe the overall status and actions taken to-date by the One-Stop delivery system to address services to people with disabilities, including levels of participation and outcomes in core, intensive and training services.

• For the state or local workforce area(s) related to your proposal, identify WIA Title I adult, dislocated worker, and youth program and Wagner-Peyser data covering the past two Program Years (PY) for the:

(1) number and percent of people with disabilities participating or exiting the programs compared with that of all individuals served; and

(2) number and percent of people with disabilities that entered employment compared with employment outcomes of all individuals exiting these programs.

• Identify whether a Work Incentive Grant award was received in the October 2000 or May 2002 award announcements along with accomplishments and reasons for application to this solicitation.

• Identify whether Disability Program Navigator(s) have been implemented in the state or local workforce investment area(s) under previous Work Incentive or other grants.

• Identify whether an Office of Disability Employment Policy grant has been received in the workforce investment area(s) and how activities will be coordinated with this project proposal.

• Identify the status of physical accessibility of state and/or local One-Stop Career Center facilities and plans for addressing deficiencies.

• Identify the status of programmatic accessibility and plans for addressing deficiencies.

• Identify the status of communication accessibility—including availability of assistive technology—in your One-Stop Career Centers and plans for addressing deficiencies.

• Describe significant deficiencies in the state or local workforce investment system that represent barriers to employment for people with disabilities and what will be accomplished under this grant to address them.

• Identify ETA, ODEP or other grants and resources in the state or local workforce area(s) which impact the delivery of such services as well as the unmet needs of job seekers with disabilities and can be used to enhance your project.

• Identify additional state and/or local funds and resources, if any, that will be used to support the overall objectives of the grant and will assist in addressing the identified issues of the grant project.

B. Workplan To Increase Comprehensive Services and Enhance One-Stop Career Center Services (Not To Exceed 10 Double-Spaced Pages; Maximum of 40 Points)

The purpose of the Workplan criteria is to identify the approach proposed by the grantee to establish a welcoming and seamless One-Stop Career Center service delivery system for persons with disabilities, that addresses identified needs described under Section B (Statement of Need), and achieves Work Incentive Grant objectives. In general, achieving a seamless system requires extensive linkages and on-site knowledge of applicable resources that address multiple disability issues and barriers to employment that are commonly experienced by persons with disabilities. Disability issues are often very complex and the disability community is very diverse. These factors present significant challenges to the workforce system in providing effective services to individuals with disabilities. At the same time, the comprehensive nature of the One-Stop Career Center system establishes a workforce infrastructure that is uniquely positioned to provide the kind of seamless service delivery that the disability community has long been seeking. Some workforce investment areas have made great strides in achieving universal access for their customers with disabilities while others are at a more preliminary stage with minimal services or assistive technology available.

Based upon the progress to-date achieved by the applicant and their One-Stop Career Center system, we request that you identify the primary approach of your proposal in terms of addressing Workplan (1) or (2) described below. Although you may select both options when such an approach will best address shortcomings in your current system, your Workplan description must provide your rational for selecting either (1) or (2) or both. As noted above, we are encouraging prior recipients of Work Incentive Grants to focus solely on Workplan (2): establishing Disability Program Navigator positions.

(1) Workplan to Address Systemic One-Stop Career Center. This section addresses universal access and model One-Stop services for job seekers with disabilities, including psychiatric disabilities, in a way that is distinct from implementing Disability Program Navigator positions.

• Describe the activities you will implement to maintain and expand the service structure for individuals with disabilities who are accessing the workforce investment system. Include capacity building of the Employment Service component of the One-Stop system.

• Identify plans to address accessibility needs of your One-Stop Career Centers and plans to procure and implement accessible technologies, including video interpreting services for clients who are deaf, and how these activities will meet current system deficiencies.

• Describe plans to improve access to One-Stop Career Center services for customers with disabilities involving: (1) Inclusion in core, intensive and training services; (2) referral processes for Vocational Rehabilitation services or other agency programs; (3) joint funding of training and supportive services with Vocational Rehabilitation or other available resources; and (4) plans for establishing common intake or other administrative procedures that reduce duplication.

• Identify plans to implement assessment tools or procedures to help identify individuals with learning disabilities in the One-Stop delivery system and plans for implementing additional tools, if applicable.

• Describe plans for outreach, marketing, training, or on-going coordination and collaboration to the disability community and organizations that represent or work with people with disabilities. These entities, programs or systems may include but are not limited to: State and local Independent Living Center (CIL) systems, mental health departments, mental retardation/developmental disability agencies, State Councils on Developmental Disabilities, State Vocational Rehabilitation, and other local provider or advocate organizations, Regional Disability Business and Technical Assistance Centers (DBTAC's) and State Governors Committees on Employment of People with Disabilities, Learning Disabilities and Training Dissemination hub centers established under grants from the U.S. Department of Education's Office of Vocational and Adult Education, faith-based organizations and other community-based organizations, Benefits Planning, Assistance and Outreach specialists funded by SSA, Medicaid and Medicare system, including infrastructure grants and Medicaid buy-in provisions, Employment Networks (EN) established under the Ticket to Work and Work Incentive Improvement Act (TWWIIA).

• Identify whether you are an EN under the Ticket to Work program and whether you plan to become an EN as part of your grant activities.

• Describe specific state or local area provisions regarding Medicaid and/or Medicare coverage, the current transportation infrastructure, and how individuals with disabilities will access training, employment, housing, food stamps and other supportive services;

• Describe other plans, as applicable, under your proposal that will address or facilitate other improvements to your state or local One-Stop Career Center system.

(2) Workplan to Implement Disability Program Navigator Positions. These criteria build upon the joint ETA/SSA Disability Program Navigator (DPN) initiative underway and provide for additional states or local areas to establish similar positions through the WIG program.

The ETA/SSA position description (PD) for the Navigator is attached (Attachment D) to this SGA for guidance on establishing Disability Program Navigator positions in the One-Stop Career Center system. The PD is neither prescriptive nor all-inclusive; rather, it provides examples of the roles and functions of such a position depending upon the needs of the One-Stop and the skills and talents of the individual Navigator. We encourage you to consider hiring people with disabilities for the Navigator position(s) since, in general, they are intimately familiar with barriers to employment that others with disabilities face.

Navigators established under this grant will be expected to participate in training and technical assistance activities provided under ETA's Disability Program Navigator initiative that is currently functioning in 14 states. We will also expect that Navigator activities will be coordinated throughout a state, to the extent there is more than one Navigator, funded under this or other WIG or Disability Program Navigator grants (this may not be known at time of proposal and we will facilitate coordination when applicable subsequent to grant award).

Plans to implement Disability Program Navigator positions must identify:

• Administrative support;

• The hiring process;

• Management and supervision responsibility;

• Workforce investment area(s) that will include Navigators;

• One-Stop Career Center(s) to which Navigators will be assigned; and

• Anticipated role the Disability Program Navigator(s) will fill in the workforce investment area(s) over the course of the grant (as it relates to the attached Navigator PD).

State level proposals focused on implementing Disability Program Navigator positions should identify a state project lead to work closely with ETA and the University of Iowa's Law, Health Policy and Disability Center and their Rehabilitation Research and Training Center (RRTC) that provides training and technical assistance to this national initiative. Proposals involving single or multiple workforce areas will also be expected to coordinate their implementation with ETA and the RRTC, and work with a state Navigator project lead if s/he has been established under this or other ETA grant awards.

C. Annotated Project Timeline: (Not To Exceed 5 Pages; Maximum of 15 Points)

You must complete and annotate a Project Timeline related to your activities proposed in the applicable Workplan section above. A model “timeline” is attached (Attachment C). Please provide additional timeline information as applicable. Provide:

• Goals, objectives, responsibilities, implementation strategies and time frames, expected outcomes, and evaluation indicators for assuring your successful completion of critical activities.

• Project organizational chart that identifies key management staff and their responsibilities, with a matrix of organizational responsibilities of key partner organizations, if applicable.

D. Improve Participation and Employment Outcomes for Persons With Disabilities (Not To exceed Five Double-Spaced Pages; Maximum of 15 Points)

These criteria seek to identify: (1) How you will increase services, skill training, employment outcomes, job retention and career advancement for persons with disabilities utilizing WIA Title I and Wagner-Peyser services and programs to achieve the Government Performance and Results Act (GPRA) goals for the Work Incentive Grant program; (2) how you will coordinate services and training with other programs or resources for which these individuals may be eligible and that may impact successful employment outcomes; and (3) how you will work to sustain programs and achievements beyond the period of performance.

Please note: Employment with special wage provisions authorized under section 14(c) of the Fair Labor Standards Act (29 U.S.C. 214) is not considered a positive employment outcome for the purpose of Work Incentive Grants.

Proposed GPRA goals for PY 2004 and PY 2005 for Work Incentive Grants are:

• Eight percent (8%) of participants served in adult, dislocated worker, and youth programs will be persons with disabilities in workforce investment areas that receive Work Incentive Grants. (6.5% of total participants were persons with disabilities in PY 2001)

• Seventy percent (70%) of participants with disabilities that exit the WIA adult, dislocated worker and adult youth programs in workforce areas receiving grants will enter employment (65% of WIA exiters with disabilities entered employment during April 1, 2001-March 31, 2002)

• A measure of efficiency will be calculated. Total costs of the grant will be divided by the total participants in the workforce investment areas funded under the grant.

Please remember that Work Incentive Grant funds are not to be used for direct training of participants; therefore, intensive and training funds must be made available through WIA program and/or other mandated (or non-mandated) partner resources in order to meet participant employment goals and objectives. If you do blend resources across funding streams, it is accepted practice under WIA to report participant services and outcomes for each program involved.

Provide the following levels of planned services under state Wagner-Peyser (e.g., Job Service, Employment Service, Labor Exchange), state or local WIA Title I adult, dislocated worker and youth programs, and planned levels of services and outcomes under the proposed grant for participants in these programs (planned goals do not have to be at the level of national GPRA goals; however, state and local workforce area(s) should be working towards these goals):

State or local WIA | Wagner-Peyser/Labor exchange: Served (registered): Total No. served | Wagner-Peyser/Labor exchange: Served (registered): No. with disabilities | Wagner-Peyser/Labor exchange: Served (registered): Percent with disabilities | Wagner-Peyser/Labor exchange: Entered employment: Total No. entered employment | Wagner-Peyser/Labor exchange: Entered employment: No. with disabilities | Wagner-Peyser/Labor exchange: Entered employment: Percent with disabilities

State or local WIA | Adult, dislocated worker, and youth: Served (registered): Total No. served | Adult, dislocated worker, and youth: Served (registered): No. with disabilities | Adult, dislocated worker, and youth: Served (registered): Percent with disabilities | Adult, dislocated worker, and youth: Entered employment: Total No. entered employment | Adult, dislocated worker, and youth: Entered employment: No. with disabilities | Adult, dislocated worker, and youth: Entered employment: Percent with disabilities

Your narrative must include the following information for this criterion.

• Describe your strategy for increasing the number and percent of people with disabilities served, trained and placed into unsubsidized employment through WIA Title I and Wagner-Peyser programs. Your state or local workforce area(s) may already be serving and achieving employment levels for persons with disabilities that are at or above the GPRA goals identified. If that is the case, please identify actions to be taken to sustain these levels of performance.

• Identify how joint funding of training or employment services may be leveraged across available programs to which job seekers with disabilities may be eligible, including Vocational Rehabilitation services.

• Identify how your planned activities to train and place individuals with disabilities will meet employer skill shortage needs, including how available federal and state tax incentives will be utilized or marketed to improve employment outcomes.

• Identify the extent to which planned training for customers with disabilities will be provided through the state or local community college system.

• Within demand industries and occupations in the labor market to be served, describe a plan for identifying growth occupations with positive earnings trajectories and their education and training requirements and how job seekers with disabilities will be included.

• Describe how public supports needed by people with disabilities may be affected by their employment or training and state or local conditions, and then describe your proposed actions to sustain benefits and services following successful job placement. For example, does the state or local area have provisions to continue supported or Section 8A housing (The Housing Act of 1992, Title IV), where applicable, for individuals who enter unsubsidized employment?

• Provide the following information concerning developing or providing skill training and employment opportunities for individuals with disabilities within the local workforce investment area:

—Plans for using on-the-job training opportunities;

—Approaches for mentoring adults and youth through faith-based and community-based organizations, employers, and Independent Living Centers, among others;

—Strategies to foster entrepreneurial and self-employment options;

—Strategies to increase employment outcomes through individualized or customized job development;

—Plans for Individual Development Accounts and other asset building programs for control of training funds, Vocational Rehabilitation funds, Individual Training Accounts, and other funds to which these individuals may have access (e.g., Medicaid personal assistance services);

—Strategies to incorporate apprenticeship into planned career opportunities;

—Strategies to deploy Plans for Achieving Self-Support (PASS), tickets under the SSA Ticket to Work program, or other SSA work incentives when providing services for beneficiaries of SSDI and SSI programs;

—Strategies to sustain projects and achievements beyond the period of performance; and

—Approaches for developing employer relationships such as linkages with Business Leadership Networks (BLNs) in achieving employment outcomes for people with disabilities.

E. Plans To Sustain the Activities Beyond WIG IV Funding (Not To Exceed 5 Double-Spaced Pages; Maximum of 15 Points)

Identify state or local workforce plans to sustain activities or accomplishments to be achieved under your proposal. What approaches do you envision to achieve permanent, systemic change? What approach is planned to assure increased coordination of services of mandated and non-mandated partner programs that impact successful employment of job seekers with disabilities following the end of the grant? If Navigators are planned under your proposal, how will these positions continue to be supported at the end of the grant? We would like to make sure that state and local workforce areas are looking beyond the end of this grant as part of institutionalizing the goals and objectives of the Work Incentive Grant program to increase, enhance and improve services and outcomes for people with disabilities accessing the workforce program.

2. Review and Selection Process:

• Technical review panels will evaluate each application against the rating criteria listed in this SGA. Priority will be given to applicants from states in which a work incentive grant has yet to be awarded.

• The Department may elect to award grants either with or without discussions with the offeror. In situations without discussions, an award will be based on the offeror's signature on the SF 424, which constitutes a binding offer.

• The panel recommendations are advisory and not binding on the Grant Officer. The ETA grant officer will fully consider the panel recommendations but take into account geographic dispersion, program balance, diversity, the availability of funds, and other factors to ensure the most advantageous award of these funds to accomplish the system-building purposes outlined in this SGA. Please note that Disability Program Navigator initiative states may be expanded through cooperative agreements established in June 2003 rather than through awards under this Work Incentive Grant solicitation.

VI. Award Administration Information

1. Award Notices: All award notifications will be posted on the ETA Homepage at http://www.doleta.gov. Grant awards will be made no later than June 30, 2004.

2. Administrative and National Policy Requirements: Grantees must comply with the following provisions:

• 29 CFR parts 30, 31, 32, 33 and 36—Equal Employment Opportunity in Apprenticeship and Training; Nondiscrimination in Federally Assisted Programs of the Department of Labor-Effectuation of the Title VI of the Civil Rights Act of 1964; Nondiscrimination on the Basis of Handicap in Programs or Activities Conducted by the Department of Labor; and Nondiscrimination on the Basis of Sex in Education Programs Receiving or Benefiting from Federal Financial Assistance;

• 29 CFR part 37—Implementation of the Nondiscrimination and Equal Opportunity Provisions of the Workforce Investment Act of 1988 (WIA);

• 29 CFR part 93—Lobbying;

• 29 CFR part 95—Uniform Administrative Requirements for Grants and Agreements with Institutions of Higher Education, Hospitals, and Other Non-Profit Organizations, and with Commercial Organizations;

• 29 CFR PART 96—Audit Requirements for Grants, Contracts and Other Agreements;

• 29 CFR part 97—Uniform Administrative Requirements for Grants and Cooperative Agreements to State and Local Governments;

• 29 CFR part 98—Governmentwide Debarment and Suspension (Non-Procurement) and Governmentwide Requirements for Drug-Free Workplace;

• 29 CFR part 99—Audit of States, Local Governments, and Non-Profit Organizations.

In accordance with section 18 of the Lobbying Disclosure Act of 1995, Public Law 104-65 (2 U.S.C. 1611) non-profit entities incorporated under Internal Revenue Service Code section 501(c)(4) that engage in lobbying activities are not eligible to receive Federal funds and grants. Further, this program is subject to the provisions of the “Jobs for Veterans Act,” Public Law 107-288, which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the veterans priority statute and its effect on current employment and training programs. DOL anticipates updating this guidance at the time of WIA reauthorization and issuing individual guidance on each affected employment and training program.

3. Reporting, Monitoring and Technical Assistance: We require two types of progress reports during each quarter, or three month period, during the period of performance: quarterly narrative progress and financial reports. Disability Program Navigator positions may require an additional progress report. Quarterly reports are due within 30 days following the end of each quarter (ending on September 30, December 31, March 31, and June 30) from the date of grant award. It is likely that grant funds will be awarded by early June 2004 and the first quarterly reports will be due 30 days following September 30, 2004. Between reporting dates, the grantee shall also immediately inform the assigned ETA Federal Project Officer of significant developments and/or problems affecting the grantee's ability to accomplish the Workplan. At the end of the grant, the grantee must also prepare and submit a final report summarizing all accomplishments under the grant. The format of all reports and submission instructions will be provided following grant award.

ETA is responsible for ensuring effective implementation of each competitive grant project through active technical assistance and on-site project monitoring. This monitoring will focus on timely project implementation in accordance with the Workplan and Timeline, the appropriate expenditure of grant funds, integration and coordination with other service providers in the local area, and the effectiveness of project management in achieving project goals. Finally, on-site monitoring will examine the fruitfulness of efforts to build sustainability.

We will provide extensive technical assistance over the duration of the Round IV Work Incentive Grant through ETA's contract with the University of Iowa's Law, Health Policy and Disability Center and their Research Rehabilitation and Training Center on Workforce Investment and Employment Policy for Persons with Disabilities. Technical assistance and training will include extensive information sharing across grantees as well as numerous topical phone conferences. The selected grantees will also share responsibility for identifying, showcasing and replicating successful instances of involvement in the One-Stop system by partners and organizations assisting jobseekers with disabilities.

VII. Agency Contacts

Questions should be faxed to Eric Luetkenhaus, Grant Officer, Division of Federal Assistance at (202) 693-2705 (This is not a toll free number). All inquiries should include the SGA/DFA 04-107 and a contact name, fax and phone number. For more information contact Mr. Luetkenhaus at 202-693-3109 (This is not a toll free number). This solicitation will be also published on the Internet, on ETA's disability online home page at http://wdsc.doleta.gov/disability/, and the ETA home page at http://www.doleta.gov. Award notifications will also be published on the ETA home page.

Signed in Washington, DC, this 2nd of April, 2004.
Eric D. Luetkenhaus,
Grant Officer, Employment and Training Administration.

Attachments

1. (SF) 424: Application Form

2. Budget Information Form

3. OMB No. 1890-0014: Survey on Ensuring Equal Opportunity for Applicants

4. Project Timeline Format

5. Disability Program Navigator Position Description—7 pages

BILLING CODE 4510-30-P

[FR Doc. 04-7906 Filed 4-7-04; 8:45 am]

BILLING CODE 4510-30-C